OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: M. Lamary, Group Manager, Executive Resources Services Group, Center for Human Resources, Division for Human Capital Leadership and Merit System Accountability, 202-606-2246.

SUPPLEMENTARY INFORMATION: Appearing in the listing below are the individual authorities established under Schedules A, B, and C between June 1, 2008, and June 30, 2008. Future notices will be published on the fourth Tuesday of each month, or as soon as possible thereafter. A consolidated listing of all authorities as of June 30 is published each year.

Schedule A

No Schedule A appointments were approved for June 2008.

Schedule B

No Schedule B appointments were approved for June 2008.

Schedule C

The following Schedule C appointments were approved during June 2008.

Section 213.3303 Executive Office of the President

Office of National Drug Control Policy

QQGS80010 Legislative Analyst to the Associate Director, Office of Legislative Affairs. Effective June 6, 2008.

Section 213.3304 Department of State

DSGS69746 Public Affairs Specialist to the Principal Deputy Assistant Secretary. Effective June 6, 2008.

DSGS69749 Staff Assistant to the Director, Policy Planning Staff. Effective June 25, 2008.

DSGS69747 Staff Assistant to the Under Secretary for Global Affairs. Effective June 26, 2008.

DSGS69748 Special Assistant to the Counselor. Effective June 26, 2008.

Section 213.3305 Department of the Treasury

DYGS00494 Special Assistant to the Director of the Mint. Effective June 13, 2008.

DYGS00424 Senior Advisor to the Assistant Secretary (Economic Policy). Effective June 19, 2008.

DYGS00420 Special Assistant to the Deputy Assistant Secretary for Legislative Affairs (Banking and Finance). Effective June 20, 2008.

Section 213.3306 Department of Defense

DDGS17160 Special Assistant/Senior Advisor to the Under Secretary of Defense (Comptroller). Effective June 3, 2008.

DDGS17159 Special Assistant to the Assistant Secretary of Defense (Legislative Affairs). Effective June 6, 2008.

DDGS17163 Speechwriter for the Special Assistant to the Deputy Secretary of Defense. Effective June 26, 2008.

Section 213.3308 Department of the Navy

DNGS08166 Staff Assistant to the Deputy Under Secretary of the Navy. Effective June 4, 2008.

Section 213.3310 Department of Justice

DJGS00109 Associate Director to the Director. Effective June 10, 2008.

DJGS00136 Senior Policy Advisor to the Director of the Violence Against Women Office. Effective June 17, 2008.

DJGS00093 Deputy White House Liaison to the White House Liaison. Effective June 20, 2008.

DJGS00113 Senior Counsel to the Director, Community Relations Service. Effective June 24, 2008.

Section 213.3311 Department of Homeland Security

DMGS00752 Special Assistant to the Director of Faith Based and Community Initiatives. Effective June 6, 2008.

DMGS00754 Governor and Homeland Security Advisors Coordinator to the Assistant Secretary for Intergovernmental Programs. Effective June 13, 2008.

DMGS00755 Confidential Assistant to the Counselor to the Deputy Secretary. Effective June 13, 2008.

DMGS00753 Senior Policy Advisor to the Assistant Secretary for Infrastructure Protection. Effective June 17, 2008.

DMGS00756 Advance Representative to the Director of Scheduling and Advance. Effective June 17, 2008.

DMGS00705 White House Liaison to the Chief of Staff. Effective June 20, 2008.

DMGS00757 Director of Intergovernmental Affairs to the Assistant Secretary for Intergovernmental Affairs. Effective June 26, 2008.

DMGS00759 Advance Representative to the Director of Scheduling and Advance. Effective June 26, 2008.

DMGS00761 Associate Director for Public Liaison to the Chief of Staff to the Coordinator. Effective June 26, 2008.

DMGS00760 Director of Intergovernmental Affairs to the Director of External Affairs and Communications. Effective June 27, 2008.

Section 213.3312 Department of the Interior

DIGS01125 Senior Advisor to the Chief of Staff. Effective June 3, 2008.

DIGS01126 Senior Counsel and Special Assistant to the Solicitor to the Deputy Solicitor. Effective June 10, 2008.

DIGS01127 Deputy Director, Office of Communications to the Director, Office of Communications. Effective June 12, 2008.

Section 213.3313 Department of Agriculture

DAGS00942 Staff Assistant to the Assistant Secretary for Congressional Relations. Effective June 12, 2008.

Section 213.3314 Department of Commerce

DCGS00030 Special Assistant to the National Director, Minority Business Development Agency. Effective June 6, 2008.

DCGS00191 Legislative Counsel to the Deputy General Counsel. Effective June 6, 2008.

DCGS00199 Legislative Affairs Specialist to the Assistant Secretary for Legislative and Intergovernmental Affairs. Effective June 6, 2008.

DCGS60291 Public Affairs Specialist to the Director of Public Affairs. Effective June 27, 2008.

Section 213.3315 Department of Labor

DLGS60144 Special Assistant to the Director of Scheduling. Effective June 11, 2008.

DLGS60179 Special Assistant to the Deputy Wage and Hour Administrator. Effective June 13, 2008.

DLGS60250 Deputy Director of Scheduling to the Director of Scheduling. Effective June 13, 2008.

DLGS60142 Staff Assistant to the Director of Scheduling. Effective June 24, 2008.

DLGS60203 Special Assistant to the Assistant Secretary for Veterans Employment and Training. Effective June 27, 2008.

Section 213.3316 Department of Health and Human Services

DHGS60169 Special Assistant to the Assistant Secretary for Public Affairs. Effective June 9, 2008.

DHGS60008 Senior Advisor to the Assistant Secretary for Children and Families. Effective June 17, 2008.

DHGS60073 Special Assistant (Center for Faith-Based and Community Initiatives) to the Director, Center for Faith Based and Community Initiatives. Effective June 17, 2008.

Section 213.3317 Department of Education

DBGS00669 Senior Advisor to the Assistant Secretary, Office of Communications and Outreach. Effective June 9, 2008.

DBGS00270 Confidential Assistant (White House Liaison) to the White House Liaison. Effective June 13, 2008.

DBGS00496 Special Assistant to the Deputy Assistant Secretary for Process Improvement. Effective June 20, 2008.

DBGS00560 Chief of Staff to the Assistant Secretary for Planning, Evaluation, and Policy Development. Effective June 20, 2008.

DBGS00570 Confidential Assistant to the Assistant Secretary, Office of Communications and Outreach. Effective June 20, 2008.

DBGS00670 Deputy Director, (White House Initiative on the Educational Excellence for Hispanic Americans) to the Director, White House Initiative on Hispanic Education. Effective June 25, 2008.

Section 213.3318 Environmental Protection Agency

EPGS05006 Speech Writer to the Associate Administrator for Public Affairs. Effective June 11, 2008.

EPGS08010 Special Assistant to the Associate Administrator for Congressional and Intergovernmental Relations. Effective June 11, 2008.

EPGS05018 Deputy Associate Administrator for Office of Congressional Affairs to the Associate Administrator for Congressional and Intergovernmental Relations. Effective June 27, 2008.

Section 213.3323 Overseas Private Investment Corporation

PQGS08015 Research Specialist to the Chief of Staff. Effective June 03, 2008.

Section 213.3325 United States Tax Court

JCGS60086 Trial Clerk to the Chief Judge. Effective June 09, 2008.

Section 213.3327 Department of Veterans Affairs

DVGS60014 Special Assistant to the Assistant Secretary for Public and Intergovernmental Affairs. Effective June 17, 2008.

Section 213.3331 Department of Energy

DEGS00658 Policy Advisor to the Assistant Secretary for Policy and International Affairs. Effective June 6, 2008.

DEGS00662 Deputy Assistant Secretary for Environmental Management and National Security to the Assistant Secretary for Congressional and Intergovernmental Affairs. Effective June 17, 2008.

DEGS00664 Deputy Director to the Director, Office of Scheduling and Advance. Effective June 20, 2008.

DEGS00665 Deputy Press Secretary to the Director, Public Affairs. Effective June 26, 2008.

DEGS00663 Senior Advisor to the Assistant Secretary for Fossil Energy. Effective June 27, 2008.

DEGS00666 Senior Advisor to the Assistant Secretary of Energy (Nuclear Energy). Effective June 27, 2008.

DEGS00667 Energy Operations Coordinator to the Assistant Secretary (Electricity Delivery and Energy Reliability). Effective June 27, 2008.

Section 213.3337 General Services Administration

GSGS00150 Senior Advisor to the Regional Administrator National Capital Region. Effective June 03, 2008.

GSGS00167 Confidential Assistant to the Chief of Staff. Effective June 18, 2008.

Section 213.3346 National Aeronautics and Space

NNGS00183 Deputy Press Secretary/Public Affairs Specialist to the Public Affairs Specialist. Effective June 6, 2008.

Section 213.3384 Department of Housing and Urban Development

DUGS60336 Special Assistant to the Secretary to the Deputy Secretary, Housing and Urban Development. Effective June 6, 2008.

DUGS60263 Advisor to the Secretary, Housing and Urban Development. Effective June 9, 2008.

DUGS60352 Regional Director to the Assistant Deputy Secretary for Field Policy and Management. Effective June 24, 2008.

DUGS60460 Assistant to the Secretary and White House Liaison to the Chief of Staff. Effective June 27, 2008.

DUGS60490 Special Policy Advisor to the Chief of Staff. Effective June 27, 2008.

Section 213.3394 Department of Transportation

DTGS60117 Special Assistant to the Secretary. Effective June 3, 2008.

Authority: 5 U.S.C. 3301 and 3302; E.O. 10577, 3 CFR 1954-1958 Comp., p. 218.

U.S. Office of Personnel Management.
Howard C. Weizmann,
Deputy Director.

[FR Doc. E8-20112 Filed 8-28-08; 8:45 am]

BILLING CODE 6325-39-P